DEPARTMENT OF DEFENSE

Department of the Army

Notice of Availability for the Draft Finding of No Significant Impact and Final Programmatic Environmental Assessment for Army 2020 Force Structure Realignment

AGENCY: Department of the Army, DoD.

ACTION: Notice; 30-day extension of comment period.

SUMMARY: The Department of the Army announces a 30-day extension on the public comment period for the draft Finding of No Significant Impact (FNSI) and final Programmatic Environmental Assessment (PEA) for Army 2020 force structure realignments that may occur from Fiscal Years (FYs) 2013-2020. The Army published the Notice of Availability of the draft FNSI and PEA in the Federal Register (78 FR 4134) on January 18, 2013. The comment period, originally set to end on February 19, 2013, is being extended by 30 days. The comment period will now run through March 21, 2013. An electronic version of the PEA and draft FNSI is available for download at: http://aec.army.mil/usaec/nepa/topics00.html.

ADDRESSES: Written comments should be sent to: Public Comments USAEC, Attention: IMPA-AE (Army 2020 PEA), 2450 Connell Road (Bldg. 2264), Fort Sam Houston, Texas 78234-7664; or by email to USARMY.JBSA.AEC.MBX@mail.mil.

FOR FURTHER INFORMATION CONTACT: (210) 466-1590 or email: USARMY.JBSA.AEC.MBX@mail.mil.

Brenda S. Bowen,
Army Federal Register Liaison Officer.

[FR Doc. 2013-03750 Filed 2-15-13; 8:45 am]

BILLING CODE 3710-08-P